DEPARTMENT OF JUSTICE

Notice of Lodging of Partial Consent Decree Under the Clean Water Act

Notice is hereby given that on April 25, 2005, a proposed Partial Consent Decree in Commonwealth of Kentucky and United States v. Louisville and Jefferson County Metropolitan Sewer District, (“MSD”) Civil Action No. 3:05-CV-236S was lodged with the United States District Court for the Western District of Kentucky.

The joint Commonwealth of Kentucky and United States action sought penalties and injunctive relief for unauthorized discharges of untreated sewage and to address problems of overflows from sewers that carry a combination of untreated sewage and storm water under the Clean Water Act and MSD's National Pollutant Discharge Elimination System permit issued by Kentucky. Under the Consent Decree, MSD will propose and implement specific corrective action plans to bring its combined sewer overflows into compliance with water quality standards and to eliminate unauthorized discharges from its sanitary sewers. The Consent Decree also requires MSD to pay a civil penalty to the Commonwealth of Kentucky of $1 million and, under Kentucky supervision, to perform Supplemental Environmental Projects (SEP) costing an additional $2.25 million.

Pursuant to 28 CFR 50.7, the United States Department of Justice will receive, for a period of thirty (30) days from the date of this publication, comments relating to the Consent Decree. Comments should be addressed to the U.S. Department of Justice, Assistant Attorney General, Environment and Natural Resources Division, P.O. Box 7611, Ben Franklin Station, Washington, DC 20044-7611, and should refer to Commonwealth of Kentucky and United States v. Louisville and Jefferson County Metropolitan Sewer District, (“MSD”) Civil Action No. 3:05-CV-236S, D.J. Ref. No. 90-5-1-1-08254.

The Consent Decree may be examined during the public comment period on the following Department of Justice Web site: http://www.usdoj.gov/enrd/open.html. A copy of the Consent Decree may also be obtained by mail from the Consent Decree Library, U.S. Department of Justice, P.O. Box 7611, Ben Franklin Station, Washington, DC 20044-7611, or by faxing or e-mailing a request a Tonia Fleetwood (tonia.fleetwood@usdoj.gov), fax number (202) 514-0097, phone confirmation number (202) 514-1547. When requesting a copy from the Consent Decree Library, please enclose a check in the amount of $11.75 (25 cents per page reproduction cost) payable to the U.S. Treasury.

Ellen M. Mahan,
Assistant Section Chief, Environmental Enforcement Section, Environment and Natural Resources.

[FR Doc. 05-8889 Filed 5-3-05; 8:45 am]

BILLING CODE 4410-15-M